DEPARTMENT OF COMMERCE

Economic Development Administration

Notice of Petitions by Firms for Determination of Eligibility To Apply for Trade Adjustment Assistance

AGENCY: Economic Development Administration, Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[9/17/2015 through 10/6/2015]
Firm name | Firm address | Date accepted for investigation | Product(s)
G&F Industries, Inc | 709 Main Street, Sturbridge, MA 01566 | 10/6/2015 | The firm manufactures injection molding products.
Black Bay Ventures VI, LLC dba Palmer Foundry | 22 Mt Dumplin Road, Palmer, MA 01069 | 10/6/2015 | The firm manufactures vacuum-tight and dimensionally stable aluminum castings.
Rouge Engineering, Inc | 3860 South Jason Street, Englewood, CO 80110 | 10/6/2015 | The firm designs and manufactures battery charge controllers.
Smart Controls, LLC | 10000 St. Clair Avenue, Fairview Heights, IL 62208 | 10/6/2015 | The firm manufactures commercial building automation controls/thermostats.
Netcom, Inc., Inc | 599 Wheeling Road, Wheeling, IL 60090 | 10/6/2015 | The form manufactures RF/Microwave filters, frequency control devices, and custom assemblies.
Noranda Aluminum, Inc | 391 St. Jude Industrial Park, New Madrid, MO 63869 | 10/6/2015 | The firm manufactures aluminum metal rods, extrusion billet, foundry ingot and primary sow.
Kiswire Pine Bluff, Inc | 5100 Industrial Drive South, Pine Bluff, AR 71602 | 10/6/2015 | The firm manufactures steel cording to reinforce tires and hose wire for the hydraulic hose industry.
Meg J, LLC d/b/a Pride of Bristol Bay | 111 Oxbow Lane, Ketchum, ID 83340 | 10/6/2015 | The firm harvests wild salmon and distributes and sells reprocessed frozen salmon.
Surface Finish Technology Plating, Inc | 505 North Smith Avenue #101, Corona, CA 92880 | 10/6/2015 | “The firm provides services of chemical etching/engraving, electroplating, electroless nickel plating, anodizing, passivation, polishing, of molds (steel, alum, etc.), related components, and parts.”
New Core, Inc | 22673 Hand Road, Harlingen, TX 73108 | 10/6/2015 | The manufactures and repairs electric motors.
B&W Machine Works, Inc | 550 California Road #9, Quakertown, PA 18951 | 10/6/2015 | The firm produces high-precision CNC machined parts of various materials based on customers' specifications.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: October 6, 2015.
Michael S. DeVillo,
Eligibility Examiner.

[FR Doc. 2015-25946 Filed 10-13-15; 8:45 am]

BILLING CODE 3510-WH-P